DEPARTMENT OF THE TREASURY

Fiscal Service

Surety Companies Acceptable on Federal Bonds Change in NAIC Number and State of Incorporation; Westchester Fire Insurance Company

AGENCY: Financial Management Service, Fiscal Service, Department of the Treasury.

ACTION: Notice.

SUMMARY: This is Supplement No. 6 to the Treasury Department Circular 570, 2010 Revision, published July 1, 2010, at 75 FR 38192.

FOR FURTHER INFORMATION CONTACT: Surety Bond Branch at (202) 874-6850.

SUPPLEMENTARY INFORMATION: Notice is hereby given that effective January 1, 2011, Westchester Fire Insurance Company's NAIC # has changed to 10030 due to its merger with ACE Indemnity Insurance Company. In addition due to the merger its state of incorporation has change from New York to Pennsylvania. Federal bond-approving officials should annotate their reference copies of the Treasury Department Circular 570 (“Circular”), 2010 Revision, to reflect this change.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Dated: December 16, 2010.
Laura Carrico,
Director, Financial Accounting and Services Division, Financial Management Service.

[FR Doc. 2010-33060 Filed 1-3-11; 8:45 am]

BILLING CODE 4810-35-M